DEPARTMENT OF TRANSPORTATION

Federal Motor Carrier Safety Administration

[Docket No. FMCSA-2012-0032]

Commercial Driver's License (CDL) Standards; Daimler Trucks North America (Daimler) Exemption Application

AGENCY: Federal Motor Carrier Safety Administration (FMCSA), DOT.

ACTION: Notice of final disposition; granting of application for exemption.

SUMMARY: FMCSA announces its decision to grant Daimler Trucks North America's (Daimler) application for an exemption for two Daimler drivers to drive commercial motor vehicles (CMVs) in the United States without possessing the requisite commercial driver's license (CDL) issued by one of the States. George Weiberg and Klaus-Dieter Holloh are field test engineers who will be test-driving Daimler vehicles on U.S. roads in order to meet future vehicle safety and environmental regulatory requirements and to promote the development of technology advancements in vehicle safety systems and emissions reductions. Each of these drivers holds a valid German CDL but lacks the U.S. residency necessary to obtain a CDL issued by one of the States. FMCSA believes that the process for obtaining a German-issued CDL is comparable to or is as effective as the U.S. CDL requirements and ensures that these drivers will likely achieve a level of safety that is equivalent to or greater than the level of safety that would be obtained in the absence of the exemption.

DATES: This exemption is effective April 17, 2012, and expires on April 17, 2014.

FOR FURTHER INFORMATION CONTACT: Mr. Richard Clemente, Driver and Carrier Operations Division, Office of Bus and Truck Standards and Operations, MC-PSD, Federal Motor Carrier Safety Administration, 1200 New Jersey Avenue SE., Washington, DC 20590. Telephone: 202-366-4325. Email: MCPSD@dot.gov.

SUPPLEMENTARY INFORMATION:

Background

Under 49 U.S.C. 31315 and 31136(e), FMCSA may grant an exemption from certain Federal Motor Carrier Safety Regulations (FMCSRs) (49 CFR part 350 et seq.) for up to 2 years. The Agency must find that the exemption will allow the applicant to implement more effective or efficient operations and “would likely achieve a level of safety that is equivalent to or greater than the level that would be achieved absent such exemption” (49 CFR 381.305 (a)). Exemptions are renewable for 2-year periods.

Daimler Application for Exemption

Daimler applied for an exemption for drivers Georg Weiberg and Klaus-Dieter Holloh from 49 CFR 383.23 of the CDL rules, requiring drivers operating CMVs to have a CDL issued by one of the States. A copy of the request for exemption is in the docket identified at the beginning of this notice. The exemption allows these two drivers to operate CMVs to support Daimler field tests to meet future vehicle safety and environmental regulatory requirements and to promote the development of technology and advancements in vehicle safety systems and emissions reductions. These Daimler drivers will typically drive for no more than 6 hours per day for 2 consecutive days, and 10 percent of the test driving will be on two-lane state highways, while 90 percent will be on interstate highways. The driving for each driver will consist of no more than 200 miles per day for a total of 400 miles during a two-day period on a quarterly basis.

49 CFR 383.21 requires CMV drivers in the United States to have a CDL issued by a State. Weiberg and Holloh are citizens and residents of Germany. Only residents of a State can apply for a CDL.¹ Without the exemption, Weiberg and Holloh would not be able to test-drive Daimler prototype CMVs on U.S. roads.

¹ Although 49 CFR 383.23 indicates that these drivers could obtain a nondomiciled CDL, few States if any are currently issuing nondomiciled CDLs.

Weiberg and Holloh each hold German CDLs and are experienced operators of CMVs. In their application for exemption, Daimler also submitted documentation showing the German safe driving records of both Weiberg and Holloh.

Method to Ensure an Equivalent or Greater Level of Safety

According to Daimler, the requirements for a German-issued CDL ensure that the same level of safety is met or exceeded as if these drivers had CDLs issued by one of the States. Daimler's drivers are very familiar with the operation of CMVs worldwide and these drivers will be accompanied at all times by a U.S.-issued CDL holder who is familiar with the routes to be traveled. FMCSA has determined the process for obtaining a CDL in Germany is comparable to that for obtaining a CDL issued by one the States and adequately assesses each driver's ability to safely operate CMVs in the United States.

Comments

No comments were received in response to the FMCSA notice of this application and request for comments, published on March 7, 2012 (77 FR 13684).

FMCSA Decision

Based upon the merits of this application, including the extensive driving experience and safety records of Georg Weiberg and Klaus-Dieter Holloh, and the fact that both individuals have each successfully completed the requisite training and testing to obtain a German CDL, FMCSA concluded that the exemption would likely achieve a level of safety that is equivalent to or greater than the level that would be achieved absent such exemption, in accordance with 381.305(a).

Terms and Conditions for the Exemption

FMCSA grants Daimler an exemption from the CDL requirement in 49 CFR 383.23 to allow Weiberg and Holloh to drive CMVs in the United States, subject to the following terms and conditions:

(1) The drivers and carrier must comply with all other applicable provisions of the Federal Motor Carrier Safety Regulations (FMCSRs) (49 CFR parts 350-399), (2) the drivers must be in possession of the exemption document and a valid German CDL, (3) the drivers must be employed by, and operating the CMV within the scope of their duties for, Daimler, (4) Daimler must notify FMCSA in writing of any accident, as defined in 49 CFR 390.5, involving one or both of these drivers, and (5) Daimler must notify FMCSA in writing if either driver is convicted of a disqualifying offense under section 383.51 or section 391.15 of the FMCSRs.

In accordance with 49 U.S.C. 31315 and 31136(e), the exemption will be valid for 2 years unless revoked earlier by the FMCSA. The exemption will be revoked if: (1) An exempted driver fails to comply with the terms and conditions of the exemption; (2) the exemption results in a lower level of safety than was maintained before it was granted; or (3) continuation of the exemption would be inconsistent with the goals and objectives of 49 U.S.C. 31315 and 31136.

Issued on: May 21, 2012.
Anne S. Ferro,
Administrator.

[FR Doc. 2012-12833 Filed 5-24-12; 8:45 am]

BILLING CODE 4910-EX-P